DEPARTMENT OF TRANSPORTATION

Federal Highway Administration

[Docket No. FHWA-2011-0067]

Agency Information Collection Activities: Notice of Request for Approval of a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We published a Federal Register Notice with a 60-day public comment period on this information collection on May 18, 2011. We are required to publish this notice in the Federal Register by the Paperwork Reduction Act of 1995.

DATES: Please submit comments by August 22, 2011.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2011-0067.

FOR FURTHER INFORMATION CONTACT: Jeffrey Miller, (202) 366-0744 or jeffrey.miller@dot.gov, Office of Safety Integration, Federal Highway Administration, Department of Transportation, 1200 New Jersey Avenue, SE., Washington, DC 20590, Monday through Friday, except Federal holidays.

SUPPLEMENTARY INFORMATION:

Title: Strategic Highway Safety Plan (SHSP).

Type of request: New information collection requirement.

Background: The Safe, Accountable, Flexible, Efficient, Transportation Equity Act: A Legacy for Users (SAFETEA-LU), 23 U.S.C. 148, established the Highway Safety Improvement Program (HSIP) as a core Federal program. A Strategic Highway Safety Plan (SHSP) is a major and mandatory component of the HSIP. A SHSP is a statewide-coordinated, data-driven, multi-year comprehensive safety plan coordinated by a State Department of Transportation. The purpose of the SHSP is to identify the State's key safety needs and guide investment decisions to achieve significant reductions in highway fatalities and serious injuries on all public roads. The SHSP is developed by each State in a cooperative process with local, State, Federal, and private sector engineering, education, enforcement, and emergency medical service stakeholders. The SHSP process allows highway safety programs in the State to work together in an effort to align and leverage resources. This coordination also allows State agencies to integrate multiple strategic safety plans, including the Highway Safety Plan (HSP) and the Commercial Vehicle Safety Plan (CVSP). FHWA supports development of SHSPs at the State level by (1) Providing technical assistance; (2) conducting education and outreach; (3) performing and disseminating research and analysis; (4) developing and distributing technical tools, and (5) drafting and disseminating policy and guidance. The requested information collection, in the form of an on-line survey tool, will be used to evaluate the efficiency and effectiveness of these activities in supporting the development and implementation of SHSPs. Survey respondents will be asked to provide information about their use and opinion of FHWA-supplied products and services to support SHSP development and implementation as well as their perspectives on the effectiveness of the SHSP program overall. Certain survey respondents will also be asked to provide feedback on State-level coordination between the SHSP, the HSP and the CVSP annual safety plans required by the National Highway Traffic Safety Administration (NHTSA) and the Federal Motor Carrier Safety Administration (FMCSA), respectively. The information will also allow FHWA to assess the needs of State DOTs for additional products and services in support of the SHSP development, update and implementation processes, with the ultimate goal of improving highway safety outcomes across the nation.

Respondents: We estimate that 153 State-level leads responsible for development and implementation of the SHSP, the HSP and the CVSP. In some cases, an individual may be responsible for more than one plan.

Frequency: Annually.

Estimated Average Burden per Response: Approximately 30 minutes.

Estimated Total Annual Burden Hours: The total burden for this collection would be approximately 76.5 hours.

Authority: The Paperwork Reduction Act of 1995; 44 U.S.C. chapter 35, as amended; and 49 CFR 1.48.

Issued on: July 19, 2011.
Juli Huynh,
Chief, Management Programs and Analysis Division.

[FR Doc. 2011-18565 Filed 7-21-11; 8:45 am]

BILLING CODE 4910-22-P